DEPARTMENT OF LABOR

Employment and Training Administration

[TA-W-53,592]

Dystar LP, Corporate Office, Charlotte, NC; Notice of Termination of Investigation

Pursuant to section 221 of the Trade Act of 1974, as amended, an investigation was initiated on November 20, 2003, in response to a petition filed by a company official on behalf of workers of DyStar LP, Corporate Office, Charlotte, North Carolina.

The investigation revealed that workers of the subject firm are covered under an amended certification, TA-W-40,717A, that does not expire until May 6, 2004. Consequently, further investigation would serve no purpose and the investigation has been terminated.

Signed at Washington, DC, this 12th day of December, 2003.
Linda G. Poole,
Certifying Officer, Division of Trade Adjustment Assistance.

[FR Doc. 04-1520 Filed 1-23-04; 8:45 am]

BILLING CODE 4510-30-P